BUREAU OF CONSUMER FINANCIAL PROTECTION

[Docket No. CFPB-2014-0032]

Agency Information Collection Activities: Comment Request

AGENCY: Bureau of Consumer Financial Protection.

ACTION: Notice and request for comment.

SUMMARY: In accordance with the Paperwork Reduction Act of 1995 (PRA), the Consumer Financial Protection Bureau (Bureau) is proposing a new information collection titled, “CFPB'S Consumer Complaint Intake System Company Portal Boarding Form Information Collection System.”

DATES: Written comments are encouraged and must be received on or before February 2, 2015 to be assured of consideration.

ADDRESSES: You may submit comments, identified by the title of the information collection, OMB Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted after the comment period will not be accepted. In general, all comments received will become public records, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: PRA@cfpb.gov. Please do not submit comments to this mailbox.

SUPPLEMENTARY INFORMATION: Title of Collection: CFPB'S Consumer Complaint Intake System Company Portal Boarding Form Information Collection System.

OMB Control Number: 3170-XXXX.

Type of Review: New collection (Request for a new OMB control number.

Affected Public: Private sector.

Estimated Number of Respondents: 50,000.

Estimated Total Annual Burden Hours: 12,500.

Abstract: The Dodd-Frank Wall Street Reform and Consumer Protection Act, Public Law 111-203, Title X, provides for the Bureau's consumer complaint handling function. Among other things, the Bureau is to facilitate the centralized collection of, monitoring of, and response to complaints concerning consumer financial products and services. The support the appropriate routing of complaints to the companies that are the subjects of the complaints, the Bureau is developing a form which will allow companies to proactively participate in the Bureau's Company Portal (Company Portal), a secure, Web-based interface between the Bureau's Office of Consumer Response (Consumer Response) and companies. The Company Portal allows companies to view and respond to complaints submitted through the Bureau's complaint handling system. Many companies have sought to register with the Company Portal before consumer complaints have been submitted to the Bureau about their companies to ensure early notice of potential complaints and allow companies' users to acclimate to the software and security protocols needed to access the Company Portal. The Bureau's proposed form, the Company Portal Boarding Form (Boarding Form), will serve to streamline information collection from these companies, result in a greatly enhanced and efficient experience from both the consumers and companies' perspectives.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: November 19, 2014.
Nellisha Ramdass,
Acting Chief Information Officer, Bureau of Consumer Financial Protection.

[FR Doc. 2014-28511 Filed 12-3-14; 8:45 am]

BILLING CODE 4810-AM-P